SECURITIES AND EXCHANGE COMMISSION

[Release No. 34-93333; File Nos. SR-NYSE-2021-25, SR-NYSEAMER-2021-21, SR-NYSEArca-2021-24, SR-NYSECHX-2021-07, SR-NYSENAT-2021-09]

Self-Regulatory Organizations; New York Stock Exchange LLC, NYSE American LLC, NYSE Arca, Inc., NYSE Chicago, Inc., and NYSE National, Inc.; Notice of Withdrawal of Proposed Rule Changes To Amend the Fee Schedule To Add Meet-Me-Room Connectivity Services Available at the Mahwah Data Center

October 14, 2021.

On April 9, 2021, New York Stock Exchange LLC, NYSE American LLC, NYSE Arca, Inc., NYSE Chicago, Inc., and NYSE National, Inc. (collectively, the “Exchanges”) each filed with the Securities and Exchange Commission (“Commission”), pursuant to Section 19(b)(1) of the Securities Exchange Act of 1934 (“Act”) ¹ and Rule 19b-4 thereunder,² a proposed rule change to amend the schedule of connectivity services available at the Mahwah data center to add services available to customers in the meet me rooms in the Mahwah data center and procedures for the allocation of cabinets and power to such customers.

¹ 15 U.S.C. 78s(b)(1).

² 17 CFR 240.19b-4.

The proposed rule changes were published for comment in the Federal Register on April 22, 2021.³ On June 2, 2021, pursuant to Section 19(b)(2) of the Act,⁴ the Commission designated a longer period within which to approve the proposed rule changes, disapprove the proposed rule changes, or institute proceedings to determine whether to disapprove the proposed rule changes.⁵ On July 9, 2021, the Commission instituted proceedings under Section 19(b)(2)(B) of the Act ⁶ to determine whether to approve or disapprove the proposed rule changes.⁷ On September 28, 2021, pursuant to Section 19(b)(2) of the Act,⁸ the Commission designated a longer period for Commission action on the proceedings to determine whether to approve or disapprove the proposed rule changes.⁹ The Commission has received one comment letter on the proposed rule changes.¹⁰ On October 12, 2021, the Exchanges withdrew the proposed rule changes (SR-NYSE-2021-25, SR-NYSEAMER-2021-21, SR-NYSEArca-2021-24, SR-NYSECHX-2021-07, SR-NYSENAT-2021-09).

³ See Securities Exchange Act Release Nos. 91598 (April 16, 2021), 86 FR 21373 (April 22, 2021) (SR-NYSE-2021-25); 91599 (April 16, 2021), 86 FR 21365 (April 22, 2021) (SR-NYSEAMER-2021-21); 91600 (April 16, 2021), 86 FR 21384 (April 22, 2021) (SR-NYSEArca-2021-24); 91601 (April 16, 2021), 86 FR 21410 (April 22, 2021) (SR-NYSECHX-2021-07); and 91602 (April 16, 2021), 86 FR 21393 (April 22, 2021) (SR-NYSENAT-2021-09).

⁴ 15 U.S.C. 78s(b)(2).

⁵ See Securities Exchange Act Release No. 92089 (June 2, 2021), 86 FR 30510 (June 8, 2021).

⁶ 15 U.S.C. 78s(b)(2)(B).

⁷ See Securities Exchange Act Release No. 92368 (July 9, 2021), 86 FR 37356 (July 15, 2021).

⁸ 15 U.S.C. 78s(b)(2).

⁹ See Securities Exchange Act Release No. 93160 (September 28, 2021), 86 FR 54770 (October 4, 2021).

¹⁰ The comment letter received on the proposed rule changes is available at: https://www.sec.gov/comments/sr-nyse-2021-25/srnyse202125.htm.

For the Commission, by the Division of Trading and Markets, pursuant to delegated authority.¹¹
¹¹ 17 CFR 200.30-3(a)(12).
J. Matthew DeLesDernier,
Assistant Secretary.

[FR Doc. 2021-22800 Filed 10-19-21; 8:45 am]

BILLING CODE 8011-01-P